DEPARTMENT OF HEALTH AND HUMAN SERVICES

Centers for Disease Control and Prevention

[Request For Application 05029]

Dissemination Research on Fall Prevention: Development and Testing of an Exercise Program Package To Prevent Older Adult Falls; Notice of Availability of Funds; Amendment

A notice announcing the availability of Fiscal Year 2005 funds to award a Cooperative Agreement to identify an effective exercise intervention to reduce older adult falls was published in the Federal Register on November 8, 2004, Volume 69, Number 215, pages 64762-64769.

The notice is amended as follows: On page 64765, second column, Section IV.2, line 4, delete “Maximum number of pages: 25 pages” and replace with “Maximum number of pages: 2 pages.”

Dated: November 19, 2004.
Alan A. Kotch,
Acting Deputy Director, Procurement and Grants Office, Centers for Disease Control and Prevention.

[FR Doc. 04-26184 Filed 11-24-04; 8:45 am]

BILLING CODE 4163-18-P